DEPARTMENT OF STATE

[Public Notice: 7098]

U.S. Department of State Advisory Committee on Private International Law: Public Meeting on the Work of the UNCITRAL Working Group on International Arbitration and Conciliation

In June, the United Nations Commission on International Trade Law (UNCITRAL) approved revisions to the 1976 UNCITRAL Arbitration Rules. The 2010 UNCITRAL Arbitration Rules will take effect on August 15, 2010. [http://www.uncitral.org/uncitral/en/uncitral_texts/arbitration/1976Arbitration_rules.html] In its next phase of work, the UNCITRAL Working Group on International Arbitration and Conciliation will take up the topic of transparency in investor-State arbitration. The Working Group is scheduled to meet in Vienna October 4-8, 2010. In preparation for that meeting, a public meeting will be held, under the auspices of the Department of State's Advisory Committee on Private International Law, to obtain the views of concerned stakeholders.

Time and Place: The public meeting will take place at the Department of State's Annex 4 in Room 240, South Building, 23rd and C Streets, NW., Washington, DC, on September 15, 2010. Visitors should appear at the gate at the southwest corner of 23rd and C Streets by 9:45 a.m. EDT. Persons arriving at other times will need to make arrangements for entry using the contact information provided below. The meeting will begin at 10 a.m. and is expected to last no later than 1 p.m. If you are unable to attend the public meeting and would like to participate from a remote location, teleconferencing will be available.

Public Participation: It is requested that persons wishing to attend contact Trisha Smeltzer prior to September 8, 2010, at smeltzertk@state.gov or 202-776-8423 and provide their name, and date of birth for pre-clearance purposes, as well as email address and affiliation. Members of the public who are not pre-cleared might encounter delays with security procedures. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. A member of the public requesting reasonable accommodation should make his or her request upon registering for the meeting. Such requests received after September 13th will be considered, but might not be possible to fulfill. Please contact Ms. Smeltzer for additional meeting information, including teleconferencing dial-in details.

Dated: August 2, 2010.
Keith Loken,
Assistant Legal Adviser, Office of Private International Law, Office of the Legal Adviser, Department of State.

[FR Doc. 2010-19614 Filed 8-6-10; 8:45 am]

BILLING CODE 7410-08-P